DEPARTMENT OF COMMERCE

Foreign-Trade Zones Board

[B-9-2026]

Foreign-Trade Zone (FTZ) 70, Notification of Proposed Production Activity; IMRA America Inc.; (Femtosecond Fiber Laser Systems); Ann Arbor, Michigan

The Greater Detroit Foreign-Trade Zone, Inc., grantee of FTZ 70, submitted a notification of proposed production activity to the FTZ Board (the Board) on behalf of IMRA America Inc. (IMRA) for IMRA's facility in Ann Arbor, Michigan within FTZ 70.The notification conforming to the requirements of the Board's regulations (15 CFR 400.22) was received on January 19, 2026.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: Pre-Amplified Light Emitters; Power Amplifiers; and Oscillator Modules (duty free).

The proposed foreign-status materials/components include: Optical Glass Fiber; Gallium Arsenide-Compound Wafers (2mm x 2mm to 4 inch x 4 inch); Laser Diodes; Highly reflective Coated Mirrors; Optical Grating; Tunable Optical Filters in Aluminum Housing; Optical Glass Fiber in Aluminum Housing; Fiber Grating; Glass Optical Dichroic Lenses; Glass Diced Mirrors; Glass Diced Windows; Optical Glass Lenses Mounted in Stainless Steel; Acousto-Optic Modulator Drivers; Fiber Acousto-Optic Modulators; Glass Windows; Silicon and Aluminum Alloy Mounts; Glass Optical Isolators in Aluminum Housing; Fiber Acousto-Optic Modulators with Gold-Plated Stainless-Steel Housing; Stainless Steel Mounts; Stainless Steel Cylinders; Pre-Amplified Light Emitters; Power Amplifiers to Femtosecond Laser; Oscillator Modules to Create Femtosecond Pulses; Aluminum Adapter Plates; Aluminum Fiber Saddles; and Copper Mounts (duty rate ranges from duty-free to 4.5%).

The request indicates that certain materials/components are subject to duties under section 1702(a)(1)(B) of the International Emergency Economic Powers Act (section 1702), section 232 of the Trade Expansion Act of 1962 (section 232), or section 301 of the Trade Act of 1974 (section 301), depending on the country of origin. The applicable section 1702, section 232, and section 301 decisions require subject merchandise to be admitted to FTZs in privileged foreign status (19 CFR 146.41).

Public comment is invited from interested parties. Submissions shall be addressed to the Board's Executive Secretary and sent to: ftz@trade.gov. The closing period for their receipt is March 9, 2026.

A copy of the notification will be available for public inspection in the “Online FTZ Information System” section of the Board's website.

For further information, contact John Frye at john.frye@trade.gov.

Dated: January 21, 2026.
Elizabeth Whiteman,
Executive Secretary.

[FR Doc. 2026-01388 Filed 1-23-26; 8:45 am]

BILLING CODE 3510-DS-P